DEPARTMENT OF COMMERCE

Foreign-Trade Zones Board

[Docket 16-2010]

Foreign-Trade Zones 73 and 74; Application for Manufacturing Authority; The Belt's Corporation (Kitting of Liquor Gift Sets); Elkridge and Baltimore, MD

An application has been submitted to the Foreign-Trade Zones Board (the Board) by The Belt's Corporation (TBC), an operator of FTZs 73 and 74, requesting manufacturing authority at sites within FTZs 73 and 74 in Elkridge and Baltimore, Maryland. The application was submitted pursuant to the provisions of the Foreign-Trade Zones Act, as amended (19 U.S.C. 81a-81u), and the regulations of the Board (15 CFR part 400). It was formally filed on March 5, 2010.

The TBC facility in FTZ 73 (32 employees, 3,300,000 unit gift set capacity) is located within Site 3 in Elkridge, Maryland. The facility in FTZ 74 (36 employees, 674,159 unit gift set capacity) is located within Site 13 in Baltimore, Maryland. The facilities are used for the kitting of imported liquor gift sets on behalf of TBC customers. Components and materials sourced from abroad (representing 65% of the value of the finished kits) include glassware and stainless steel metal cradles for large bottles (duty rate ranges from 2 to 22.5%).

FTZ procedures could exempt TBC customers from customs duty payments on foreign components used in any future export production. On domestic sales, TBC customers would be able to choose the duty rates during customs entry procedures that apply to the finished whiskey, gin, vodka or cognac gift sets (duty-free) for the foreign inputs noted above. FTZ designation would further allow TBC customers to realize logistical benefits through the use of weekly customs entry procedures. Customs duties also could possibly be deferred or reduced on foreign status production equipment. The request indicates that the savings from FTZ procedures would help improve the facilities' international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is May 17, 2010. Rebuttal comments in response to material submitted during the foregoing period may be submitted during the subsequent 15-day period to June 1, 2010.

A copy of the application will be available for public inspection at the Office of the Executive Secretary, Foreign-Trade Zones Board, Room 2111, U.S. Department of Commerce, 1401 Constitution Avenue, NW., Washington, DC 20230-0002, and in the “Reading Room” section of the Board's website, which is accessible via http://www.trade.gov/ftz.

For further information, contact Elizabeth Whiteman at Elizabeth.Whiteman@trade.gov or (202) 482-0473.

Dated: March 5, 2010.
Andrew McGilvray,
Executive Secretary.

[FR Doc. 2010-5825 Filed 3-16-10; 8:45 am]

BILLING CODE 3510-DS-P